INTERNATIONAL BOUNDARY AND WATER COMMISSION, UNITED STATES AND MEXICO

United States Section; Notice of Availability of Draft Environmental Impact Statement for Alternative Vegetation Maintenance Practices for the Lower Rio Grande Flood Control Project in Cameron, Hidalgo, and Willacy Counties, TX

AGENCY: United States Section, International Boundary and Water Commission, United States and Mexico.

ACTION: Notice of availability of draft environmental impact statement.

SUMMARY: Pursuant to section 102(2)(c) of the National Environmental Policy Act (NEPA) of 1969, as amended, the United States Section, International Boundary and Water Commission (USIBWC), in cooperation with the United States Fish and Wildlife Service (USFWS) and the Texas Parks and Wildlife Department, has prepared a Draft Environmental Impact Statement (DEIS) on Alternative Vegetation Maintenance Practices for the Lower Rio Grande Flood Control Project in Cameron, Hidalgo, and Willacy Counties, Texas. The DEIS analyzes the Continued Maintenance Alternative (No-Action), comprising the current USIBWC vegetation maintenance program, and the impacts of three vegetation maintenance alternatives which vary from the current USIBWC vegetation maintenance practices along the Lower Rio Grande Valley.

DATES: Written comments are requested by August 29, 2003. A public meeting will be conducted from 5 to 7 p.m. CDT on Wednesday, July 30, 2003, in Weslaco, Texas. See Addresses below for location and time.

ADDRESSES: Comments should be addressed to: Carolyn Murphy, Chief, Environmental Section, CESWG-PE-PR, Department of the Army, Galveston District, Corps of Engineers, P.O. Box 1229, Galveston, Texas 77553-1229 (courier deliveries: 2000 Fort Point Rd. Galveston, Texas 77550). A public meeting will be conducted from 5 to 7 p.m. CDT on Wednesday, July 30, 2003, at the Texas A&M Agricultural Research and Extension Center, Hoblitzelle Auditorium, 2415 East Highway 83, Weslaco, Texas, to present your verbal or written comments.

Copies of the DEIS are available for inspection and review at the following locations: Brownsville Public Library, 2600 Central Boulevard, Brownsville, Texas; Harlingen Public Library, 410 ’76 Drive, Harlingen, Texas; McAllen Public Library, 601 North Main Street, McAllen, Texas; USIBWC Mercedes Field Office, 325 Golf Course Rd, Mercedes, Texas; Santa Ana National Wildlife Refuge, FM 307, 7 miles south of Alamo, TX and 1/4-mile east of U.S. 281; and USIBWC HQ, 4171 N. Mesa Street, Ste C-315, El Paso, Texas. The DEIS is also available on the USIBWC Home Page at http://www.ibwc.state.gov under “What's New,” and at the United States Army Corps of Engineers, Galveston District, Home Page at: http://www.swg.usace.army.mil/.

FOR FURTHER INFORMATION CONTACT: Mr. Douglas Echlin, Environmental Protection Specialist, Environmental Management Division, USIBWC, 4171 North Mesa Street, C-100, El Paso, Texas 79902 or call (915) 832-4741, e-mail: dougechlin@ibwc.state.gov.

SUPPLEMENTARY INFORMATION: The USIBWC vegetation maintenance program is performed along the United States portion of the Lower Rio Grande Flood Control Project (LRGFCP). The vegetation maintenance program was established to fulfill the United States Government's obligations under International Boundary and Water Commission (IBWC) Minute No. 212 and No. 238 and to protect life and properties in the United States and Mexico from Rio Grande flooding events.

Under Minute No. 212, the United States and Mexico agreed to annual concurrent channel bank mowing to reduce heavy brush growth in the river reach and to ensure a river channel capacity of 20,000 cfs at the Brownsville-Matamoros area. This maintenance mowing was considered necessary to prevent flooding in Brownsville and Matamoros for the design flood and to ensure that brush did not deflect river flood flows toward either country, thus altering the international boundary alignment by erosion. Minute No. 238 called for equally dividing flood flows into interior floodways in each country, thereby ensuring the 20,000 cfs maximum flow at Brownsville and Matamoros.

On November 1, 1989, the Sierra Club, Frontera Audubon Society, and National Audubon Society filed a civil action suit against the USIBWC alleging vegetation maintenance program violations of the Endangered Species Act (ESA) and the National Environmental Policy Act (NEPA). The plaintiffs alleged that the USIBWC had not prepared an Environmental Assessment or Environmental Impact Statement (EIS) relative to the operation and maintenance activities for the United States portion of the LRGFCP as required by NEPA. The plaintiffs also alleged that the USIBWC had not entered into formal consultation with the USFWS pursuant to section 7 of the ESA with respect to the impacts of the United States portion of the LRGFCP on federally-listed threatened or endangered species.

In a 1990 Consent Decree administered by the United States District Court of the District of Columbia, the USIBWC agreed to enter into formal consultation with the USFWS regarding the impacts of all vegetation clearing activities of the LRGFCP on federally listed species. The consultation process resulted in an issuance by the USFWS of a Biological Opinion (BO) on May 6, 1993. The USFWS has recently reissued a new BO. In addition to formal consultation with USFWS, USIBWC agreed to the preparation of this EIS, which specifically addresses alternative vegetation maintenance practices.

This DEIS presents and analyzes the impacts of current and alternative USIBWC vegetation maintenance practices to fulfill commitments under the IBWC Minutes, the Consent Decree, and the new BO. The pertinent elements of the LRGFCP vegetation maintenance program are based on the need to:

• Maintain channel banks to provide adequate flood conveyance.

• Equitably divert flood flows into interior floodways.

• Remove brush and other obstructions within floodways.

• Maintain a wildlife corridor per the USFWS BO and the 1994 LRGFCP Off-River Wildlife Travel Corridor Plan.

Four potential vegetation maintenance alternatives, including the current USIBWC maintenance program, are considered and analyzed in the DEIS. The Preferred Alternative is the Continued Maintenance Alternative (No-Action), representing the continuation of the current USIBWC vegetation maintenance program.

A copy of the DEIS has been filed with the Environmental Protection Agency (EPA) in accordance with 40 CFR parts 1500-1508 and USIBWC procedures. Written comments concerning the DEIS will be accepted at the address provided above until August 29, 2003.

Dated: July 2, 2003.
Mario Lewis,
General Counsel.

[FR Doc. 03-17564 Filed 7-10-03; 8:45 am]

BILLING CODE 4710-03-P